DEPARTMENT OF COMMERCE

Foreign-Trade Zones Board

[B-44-2017]

Foreign-Trade Zone (FTZ) 265—Conroe, Texas; Authorization of Production Activity; Bauer Manufacturing LLC dba NEORig; (Stationary Oil/Gas Drilling Rigs); Conroe, Texas

On June 5, 2017, the City of Conroe, grantee of FTZ 265, submitted a notification of proposed production activity to the FTZ Board on behalf of Bauer Manufacturing LLC dba NEORig, within Site 1 of FTZ 265, in Conroe, Texas.

The notification was processed in accordance with the regulations of the FTZ Board (15 CFR part 400), including notice in the Federal Register inviting public comment (82 FR 30821-30822, July 3, 2017). On October 3, 2017, the applicant was notified of the FTZ Board's decision that no further review of the activity is warranted at this time. The production activity described in the notification was authorized, subject to the FTZ Act and the FTZ Board's regulations, including Section 400.14.

Dated: October 3, 2017.
Andrew McGilvray,
Executive Secretary.

[FR Doc. 2017-21595 Filed 10-5-17; 8:45 am]

BILLING CODE 3510-DS-P